DEPARTMENT OF TRANSPORTATION

Pipeline and Hazardous Materials Safety Administration

Office of Hazardous Materials Safety; Notice of Applications for Modifications of Exemption

AGENCY: Pipeline and Hazardous Materials Safety Administration, DOT.

ACTION: List of applications for modification of exemption.

SUMMARY: In accordance with theprocedures governing the application for, and the processing of, exemptions from the Department of Transportation's Hazardous Material Regulations (49 CFR part 107, subpart B), notice is hereby given that the Office of Hazardous Materials Safety has received the application described herein. This notice is abbreviated to expedite docketing and public notice. Because the sections affected, modes of transportation, and the nature of application have been shown in earlier Federal Register publications, they are not repeated here. Request of modifications of exemptions (e.g., to provide for additional hazardous materials, packaging design changes, additional mode of transportation, etc.) are described in footnotes to the application number. Application numbers with the suffix “M” demote a modification request. Their applications have been separated from the new application for exemption to facilitate processing.

DATES: Comments must be received on or before May 31, 2005.

Address Comments To: Record Center, Pipeline and Hazardous Materials Safety Administration, U.S. Department of Transportation, Washington, DC 20590.

Comments should refer to the application number and be submitted in triplicate. If Confirmation of receipt of comments is desired, include a self-addressed stamped postcard showing the exemption number.

FOR FURTHER INFORMATION CONTACT: Comments of the applications are available for inspection in the Records Center, Nassif Building, 400 7th Street, SW., Washington, DC or at http://dms.dot.gov. This notice of receipt of appilcations for modification of exemption is published in accordance with part 107 of the Federal hazardous materials transportation law (49 U.S.C. 5117(b); 49 CFR 1.53(b)).

Issued in Washington, DC, on May 10, 2005.
R. Ryan Poston,
Exemptions Program Officer, Office of Hazardous Materials, Exemptions & Approvals.

Application No. | Docket No. | Applicant | Regulation(s) affected | Modification of exemption | Nature of exemption thereof
MODIFICATION EXEMPTIONS
9880-M |  | GE Reuter-Stokes, Inc., Twinsburg, OH | 49 CFR 173.302a; 175.3; Part 172 Subpart E and F | 9880 | To modify the exemption to authorize an increase in design pressure to 440 psig for the non-DOT specification containers transporting Division 2.2 materials.
10048-M |  | Epichem, Inc., Haverhill, MA | 49 CFR 173.181; 173.187; 173.201, 202, 211, 212, 226, 227 | 10048 | To modify the exemption to update various proper shipping names and UN numbers for the Division 4.2, 4.3, and 6.1 materials transported in a UN1A2 drum inside a non-DOT specification metal container.
11379-M |  | TRW Occupant Safety Systems, Washington, MI | 49 CFR 173.301(h), 173.302(a); 175.3 | 11379 | To modify the exemption to increase the maximum service pressure at 70 degrees F for the non-DOT specification pressure vessels for use as components of safety systems.
11970-M | RSPA-97-2993 | Albermarle Corp., Baton Rouge, LA | 49 CFR 172.1001; 178.245-1(c) | 11970 | To modify the exemption to authorize an additional proper shipping name for the Division 4.2 material transported in a non-DOT specification portable tank.
12920-M | RSPA-02-11638 | Epichem, Inc., Haverhill, MA | 49 CFR 173.181(c) | 2920 | To modify the exemption to update the proper shipping name and UN number for a Division 4.2 material transported in combination packagings with inner containers that exceed authorized quantities.
13207-M | RSPA-03-15068 | BEI Hawaii, Honolulu, HI | 49 CFR 173.32(f)(5) | 13207 | To modify the exemption to authorize the use of additional DOT Specification IM 101 steel portable tanks that do not conform to the filling density requirements for the transportation of a Class 8 material.
13220-M | RSPA-03-14968 | Advanced Technology Materials, Inc. (ATM), Danbury, CT | 49 CFR 173.301; 173.302; 173.304; 173.315 | 13220 | To modify the exemption to authorize the use of alternative manufacturers, cylinder shapes and mixed metal construction for the non-DOT specification welded pressure vessels.

[FR Doc. 05-9711 Filed 5-13-05; 8:45 am]

BILLING CODE 4909-60-M